DEPARTMENT OF TRANSPORTATION

Federal Aviation Administration

14 CFR Part 39

[Docket No. FAA-2006-26353; Directorate Identifier 2006-NM-189-AD]

RIN 2120-AA64

Airworthiness Directives; Bombardier Model CL-600-1A11 (CL-600), CL-600-2A12 (CL-601), CL-600-2B16 (CL-601-3A, CL-601-3R, and CL-604) Airplanes

AGENCY: Federal Aviation Administration (FAA), Department of Transportation (DOT).

ACTION: Supplemental notice of proposed rulemaking (NPRM); reopening of comment period.

SUMMARY: The FAA is revising an earlier NPRM for an airworthiness directive (AD) that applies to certain Bombardier Model CL-600-1A11 (CL-600) airplanes, CL-600-2A12 (CL-601) airplanes, and CL-600-2B16 (CL-601-3A, CL-601-3R, and CL-604) airplanes. The original NPRM would have required inspecting to identify the part number and serial number of the selector valves of the nose landing gear (NLG) and the nose gear door; and doing related investigative and corrective actions if necessary. The original NPRM resulted from reports of uncommanded partial retractions of the NLG. This action revises the original NPRM by adding airplanes to the applicability. We are proposing this supplemental NPRM to prevent internal leakage of the selector valve, which, under certain conditions, could result in an uncommanded retraction of the NLG with consequent damage to the airplane and possible serious injury to ground personnel.

DATES: We must receive comments on this supplemental NPRM by May 21, 2007.

ADDRESSES: Use one of the following addresses to submit comments on this supplemental NPRM.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Bombardier, Inc., Canadair, Aerospace Group, P.O. Box 6087, Station Centre-ville, Montreal, Quebec H3C 3G9, Canada, for service information identified in this proposed AD.

FOR FURTHER INFORMATION CONTACT: Daniel Parrillo, Aerospace Engineer, Systems and Flight Test Branch, ANE-172, FAA, New York Aircraft Certification Office, 1600 Stewart Avenue, suite 410, Westbury, New York 11590; telephone (516) 228-7305; fax (516) 794-5531.

SUPPLEMENTARY INFORMATION:

Comments Invited

We invite you to submit any relevant written data, views, or arguments regarding this supplemental NPRM. Send your comments to an address listed in the ADDRESSES section. Include the docket number “Docket No. FAA-2006-26353; Directorate Identifier 2006-NM-189-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level in the Nassif Building at the DOT street address stated in ADDRESSES. Comments will be available in the AD docket shortly after the Docket Management System receives them.

Discussion

We proposed to amend 14 CFR part 39 with a notice of proposed rulemaking (NPRM) for an airworthiness directive (AD) (the “original NPRM”). The original NPRM applies to certain Bombardier Model CL-600-1A11 (CL-600) airplanes, CL-600-2A12 (CL-601) airplanes, and CL-600-2B16 (CL-601-3A, CL-601-3R, and CL-604) airplanes. The original NPRM was published in the Federal Register on November 20, 2006 (71 FR 67079). The original NPRM proposed to require inspecting to identify the part number and serial number of the selector valves of the nose landing gear (NLG) and the nose gear door, and doing related investigative and corrective actions if necessary.

Actions Since Original NPRM Was Issued

Since the original NPRM was issued, Bombardier has determined that additional airplanes are subject to the unsafe condition.

Relevant Service Information

Bombardier has issued Service Bulletin 604-32-021, Revision 02, dated February 20, 2007 (for Model CL-600-2B16 (CL-604) airplanes). The service bulletin adds airplanes to the effectivity; however, Revision 02 is technically identical to Revision 01, dated February 20, 2006. We referred to Revision 01 as the appropriate source of service information for doing the actions specified in the original NPRM. Accomplishing the actions specified in the service information is intended to adequately address the unsafe condition.

FAA's Determination and Proposed Requirements of the Supplemental NPRM

Certain changes discussed above expand the scope of the original NPRM; therefore, we have determined that it is necessary to reopen the comment period to provide additional opportunity for public comment on this supplemental NPRM.

Difference Between Supplemental NPRM and Canadian Airworthiness Directive

Although Canadian airworthiness directive CF-2006-16, dated July 6, 2006, applies to certain airplanes as identified in Service Bulletin 604-32-021, Revision 01, this supplemental NPRM would apply to those airplanes and certain additional airplanes, as identified in Service Bulletin 604-32-021, Revision 02. This difference has been coordinated with TCCA.

Costs of Compliance

This proposed AD would affect about 502 airplanes of U.S. registry.

The inspection to determine the manufacturer P/N and S/N of the selector valve(s) would take about 1 work hour per airplane, at an average labor rate of $80 per work hour. Based on these figures, the estimated cost of the proposed AD for U.S. operators is $40,160, or $80 per airplane.

The general visual inspection of the selector valve(s), if accomplished, would take about 1 work hour per airplane, at an average labor rate of $80 per work hour. Based on these figures, the estimated cost of the proposed AD for U.S. operators is $80 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

BOMBARDIER, INC. (Formerly Canadair): Docket No. FAA-2006-26353; Directorate Identifier 2006-NM-189-AD.

Comments Due Date

(a) The FAA must receive comments on this AD action by May 21, 2007.

Affected ADs

(b) None.

Applicability

(c) This AD applies to Bombardier Model CL-600-1A11 (CL-600) airplanes, CL-600-2A12 (CL-601) airplanes, and CL-600-2B16 (CL-601-3A, CL-601-3R, and CL-604) airplanes; certificated in any category; having serial numbers (S/Ns) as identified in the service bulletins specified in Table 1 of this AD, as applicable.

Table 1.—Bombardier Service Bulletins
Service Bulletin | Revision level | Date
600-0721 (for Model CL-600-1A11 (CL-600) airplanes) | 01 | February 20, 2006.
601-0558 (for Model CL-600-2A12 (CL-601) airplanes, and CL-600-2B16 (CL-601-3A and CL-601-3R) airplanes) | 01 | February 20, 2006.
604-32-021 (for Model CL-600-2B16 (CL-604) airplanes) | 02 | February 20, 2007.

Unsafe Condition

(d) This AD results from reports of uncommanded partial retractions of the nose landing gear (NLG). We are issuing this AD to prevent internal leakage of the selector valve, which, under certain conditions, could result in an uncommanded retraction of the NLG with consequent damage to the airplane and possible serious injury to ground personnel.

Compliance

(e) You are responsible for having the actions required by this AD performed within the compliance times specified, unless the actions have already been done.

Inspection and Corrective Actions

(f) Within 500 flight hours or 12 months after the effective date of this AD, whichever occurs first, inspect to determine the manufacturer part number (P/N) and S/N of the selector valves of the NLG and nose gear door. A review of airplane maintenance records is acceptable in lieu of this inspection if the S/Ns of the selector valves can be conclusively determined from that review. For any subject selector valve having Tactair Fluid Controls P/N 750006000 and a S/N from 0001 through 0767 inclusive, before further flight, do related investigative (including a general visual inspection for proper installation of the lock wire of the end cap) and corrective actions; in accordance with the applicable service bulletins identified in Table 1 of this AD.

Note 1: Operators should be aware that selector valves having Bombardier P/N 601R75146-1 may be supplied by different manufacturers and have different manufacturer part numbers. Only airplanes having selector valves manufactured by Tactair Fluid Controls, having P/N 750006000, are subject to the investigative and corrective actions specified in paragraph (f) of this AD.

Note 2: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Note 3: The service bulletins identified in Table 1 of this AD refer to Tactair Fluid Controls Service Bulletin SB750006000-1, Revision A, dated September 6, 2005, as an additional source of service information for doing the related investigative and corrective actions required by this AD.

Actions Accomplished According to Previous Issue of Service Bulletin

(g) Actions accomplished before the effective date of this AD according to Bombardier Service Bulletin 604-32-021, Revision 01, dated February 20, 2006 (for Model CL-600-2B16 (CL-604) airplanes), are considered acceptable for compliance with the corresponding actions specified in this AD.

Alternative Methods of Compliance (AMOCs)

(h)(1) The Manager, New York Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) Canadian airworthiness directive CF-2006-16, dated July 6, 2006, also addresses the subject of this AD.

Issued in Renton, Washington, on April 19, 2007.
Ali Bahrami,
Manager, Transport Airplane Directorate, Aircraft Certification Service.

[FR Doc. E7-7979 Filed 4-25-07; 8:45 am]

BILLING CODE 4910-13-P